DEPARTMENT OF LABOR

Employment and Training Administration

[TA-W-65,027; TA-W-65,027A; TA-W-65,027B]

Davis-Standard LLC, Pawcatuck, CT, Including Off-Site Employees in Support of Davis-Standard LLC, Pawcatuck, CT, Working at Various Locations in Plainfield, IL and Westerville, OH; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 9, 2009, applicable to workers of Davis-Standard LLC, Pawcatuck, Connecticut. The notice was published in the Federal Register on March 3, 2009 (74 FR 4387).

At the request of the State agency, the Department reviewed the certification for workers of the subject firm. The workers are engaged in activities related to the production of plastic extrusion machinery.

New information shows that worker separations have occurred involving off-site employees in support and under the control of Davis-Standard LLC, Pawcatuck, Connecticut at various locations.

Based on these findings, the Department is amending this certification to include Mr. Roger Clarke, working out of Plainfield, Illinois and Mr. Ronald Allbritton, working out of Westerville, Ohio.

The intent of the Department's certification is to include all workers of the subject firm who were adversely affected by increased imports of plastic extrusion machinery following the shift of production to China and the United Kingdom.

The amended notice applicable to TA-W-65,027 is hereby issued as follows:

All workers of Davis-Standard LLC, Pawcatuck, Connecticut, including employees in support of Davis-Standard LLC, Pawcatuck, Connecticut at various locations in the following states: Plainfield, Illinois (TA-W-65,027A) and Westerville, Ohio (TA-W-65,027B), who became totally or partially separated from employment on or after January 27, 2008, through February 9, 2011, are eligible to apply for adjustment assistance under Section 223 of the Trade Act of 1974, and are also eligible to apply for alternative trade adjustment assistance under Section 246 of the Trade Act of 1974.

Signed at Washington, DC, this 30th day of March 2009.
Elliott S. Kushner,
Certifying Officer, Division of Trade Adjustment Assistance.

[FR Doc. E9-7792 Filed 4-6-09; 8:45 am]

BILLING CODE 4510-FN-P